DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Monday, November 17, 2014 from 8:15 a.m. to 5:30 p.m. EST and on Tuesday, November 18, 2014 from 9:30 a.m. to 1:00 p.m. EST. These times and the agenda topics described below are subject to change. Please refer to the Web page http://www.sab.noaa.gov/Meetings/meetings.html for the most up-to-date meeting times and agenda.

Place: The meeting will be held at the Sheraton Silver Spring in the Magnolia Ballroom, 8777 Georgia Avenue, Silver Spring, Maryland 20910. Please check the SAB Web site http://www.sab.noaa.gov/Meetings/meetings.html for directions to the meeting location.

Status: The meeting will be open to public participation with a 15-minute public comment period on November 17 from 5:15-5:30 p.m. EST (check Web site to confirm time). The SAB expects that public statements presented at its meetings will not be repetitive of previously submitted verbal or written statements. In general, each individual or group making a verbal presentation will be limited to a total time of two (2) minutes. Individuals or groups planning to make a verbal presentation should contact the SAB Executive Director by November 12, 2014, to schedule their presentation. Written comments should be received in the SAB Executive Director's Office by November 12, 2014, to provide sufficient time for SAB review. Written comments received by the SAB Executive Director after November 12, 2014, will be distributed to the SAB, but may not be reviewed prior to the meeting date. Seating at the meeting will be available on a first-come, first-served basis.

Special Accommodations: These meetings are physically accessible to people with disabilities. Requests for special accommodations may be directed no later than 12:00 p.m. on November 12, 2014, to Dr. Cynthia Decker, SAB Executive Director, SSMC3, Room 11230, 1315 East-West Hwy., Silver Spring, MD 20910; Email: Cynthia.Decker@noaa.gov.

Matters To Be Considered: The meeting will include the following topics: (1) NOAA Response to the comments from the Gulf Coast Ecosystem Restoration Science Program Advisory Working Group (RSPAWG) on the NOAA RESTORE Act Science Program Draft Science Plan; (2) Proposed New NOAA Criteria for the Review of Cooperative Institutes; (3) Sea Grant Advisory Board Biennial Report to Congress; (4) NOAA Storm Surge and Ecological Forecasting Road Maps: A Synergy for Advancing Resilient Communities; (5) Update on the NOAA Social Science Tiger Team Report; (6) SAB Strategy Session; (7) NOAA Update; and (8) Working Group Updates.

FOR FURTHER INFORMATION CONTACT: Dr. Cynthia Decker, Executive Director, Science Advisory Board, NOAA, Rm. 11230, 1315 East-West Highway, Silver Spring, Maryland 20910. (Phone: 301-734-1156, Fax: 301-713-1459). Email: Cynthia.Decker@noaa.gov; or visit the NOAA SAB Web site at http://www.sab.noaa.gov.

Dated: October 16, 2014.
Jason Donaldson,
Chief Financial Officer, Office of Oceanic and Atmospheric Research, National Oceanic and Atmospheric Administration.

[FR Doc. 2014-25104 Filed 10-23-14; 8:45 am]

BILLING CODE 3510-KD-P